ENVIRONMENTAL PROTECTION AGENCY

[FRL-6867-6]

Regulatory Reinvention (XL) Pilot Projects

AGENCY: Environmental Protection Agency (EPA).

ACTION: Notice of Availability of the United Egg Producers Project XL Draft Final Project Agreement.

SUMMARY: EPA is today requesting comments on a draft Project XL Final Project Agreement (FPA) for the United Egg Producers (UEP).

DATES: The period for submission of comments on the draft FPA ends on September 22, 2000.

ADDRESSES: All comments on the draft FPA should be sent to Ms. Lisa Reiter, US EPA, 1200 Pennsylvania Avenue, NW (1802), Washington, D.C. 20460. Comments may also be faxed to Ms. Reiter at (202) 260-3125. Comments will also be received via electronic mail sent to Ms. Reiter at reiter.lisa@epa.gov.

FOR FURTHER INFORMATION CONTACT: To obtain a copy of the draft FPA, contact Ms. Lisa Reiter, US EPA, 1200 Pennsylvania Avenue, NW (1802), Washington, D.C. 20460 or Mr. James Horne, US EPA, 1200 Pennsylvania Avenue, NW (4201), Washington, D.C. 20460. The FPA and related documents are also available via the Internet at the following location: “http://www.epa.gov/ProjectXL”. Questions to EPA regarding the documents can be directed to Ms. Reiter at (202) 260-9041 or Mr. Horne at (202) 260-5802. Additional information on Project XL, including documents referenced in this notice, other EPA policy documents related to Project XL, application information, and descriptions of existing XL projects and proposals, is available via the Internet at “http://www.epa.gov/ProjectXL”.

SUPPLEMENTARY INFORMATION: The FPA is a voluntary agreement developed by UEP, EPA, various State water officials, environmental groups, and other stakeholders. Project XL, announced in the Federal Register on May 23, 1995 (60 FR 27282), gives regulated entities the opportunity to develop alternative strategies that will replace or modify specific regulatory requirements on the condition that they produce greater environmental benefits. If implemented, the draft FPA will offer environmental and resource benefits to States, EPA, the public, and egg producers. This project includes a program whereby egg-producing facilities could qualify for coverage under general National Pollutant Discharge Elimination System (NPDES) permits issued by EPA or states and achieve “superior environmental performance” by implementing an environmental management system (EMS), which would address a range of environmental problems that would not normally be addressed through NPDES permits alone. These other issues include odor, rodent control, pest control, preventative maintenance, emergency response and others. In order to be covered under a general permit instead of an individual permit, each facility would also need to be implementing an EMS to address these issues and have passed an audit by an independent third party to confirm that the EMS was in place and functioning properly. Facilities would communicate with the local community as the EMS was developed and implemented. Information on the results of the third-party audits would also be available to the local community and to regulatory agencies when the facility submitted a Notice of Intent to be covered under a general permit. Regular followup audits would also take place and the results of these audits would be publicly available. If the facility failed to remain in compliance with the general permit or failed to adequately implement its EMS, regulatory agencies could require the facility to obtain an individual permit. Finally, UEP would significantly expand its industry outreach and education program in order to help ensure that users of manure generated by egg producers was properly applied and managed, including help to users on how to develop Comprehensive Nutrient Management Plans over time.

Dated: September 5, 2000.
Elizabeth A. Shaw,
Director, Office of Environmental Policy Innovation.

[FR Doc. 00-23237 Filed 9-7-00; 8:45 am]

BILLING CODE 6560-50-P